DEPARTMENT OF THE INTERIOR

National Park Service

[N6604; NPS-WASO-NAGPRA-NPS0041412; PPWOCRADN0-PCU00RP14.R50000]

Notice of Intended Disposition: U.S Department of Agriculture, Forest Service, Ozark-St. Francis National Forest, Russellville, AR

AGENCY: National Park Service, Interior.

ACTION: Notice.

SUMMARY: In accordance with the Native American Graves Protection and Repatriation Act (NAGPRA), the U.S Department of Agriculture, Forest Service, Ozark-St. Francis National Forest intends to carry out the disposition of human remains and the associated funerary object removed from Federal or Tribal lands to the lineal descendants, Indian Tribe, or Native Hawaiian organization with priority for disposition in this notice.

DATES: Disposition of the human remains and the associated funerary object in this notice may occur on or after January 16, 2026. If no claim for disposition is received by December 17, 2026, the human remains and associated funerary object in this notice will become unclaimed human remains and an unclaimed associated funerary object.

ADDRESSES: Send written claims for disposition of the human remains and associated funerary object in this notice to Dan Olsen, Forest Supervisor, Ozark-St. Francis National Forest, 605 W Main Street, Russellville, AR 72801, email daniel.olsen@usda.gov.

SUPPLEMENTARY INFORMATION: This notice is published as part of the National Park Service's administrative responsibilities under NAGPRA. The determinations in this notice are the sole responsibility of the Ozark-St. Francis National Forest and additional information on the human remains and associated funerary object in this notice, including the results of consultation, can be found in the related records. The National Park Service is not responsible for the identifications in this notice.

Abstract of Information Available

Based on the information available, human remains representing, at least, six individuals have been reasonably identified.

In 1993, the remains of one individual were removed from site 3BA0270, in Baxter County, Arkansas. No associated funerary objects were identified.

In 1994, one funerary object was removed from site 3NW0623 in Newton County, Arkansas. This funerary object, a large stone, is associated with human remains that were previously reported in a Notice of Inventory Completion published in the Federal Register on November 16, 2012 (77 FR 68822). Additional human remains belonging to these previously reported individuals were also located will be returned under the terms of that notice.

In 1993, the remains of one individual were recovered during an Archaeological Resources Protection Act investigation in Pope County, Arkansas at site 3PP0402. No associated funerary objects were identified.

In 1996, the remains of one individual were removed from site 3PP0450 in Pope County, Arkansas. No associated funerary objects were identified.

In 1999, a minimum of one individual was removed from site 3SE0364 in Searcy County, Arkansas. No associated funerary objects were identified.

In 1993, a minimum of one individual was removed from site 3ST0068 in Stone County, Arkansas. No associated funerary objects were identified.

In 2002, the remains of one individual were removed from site 3ST0194 in Stone County, Arkansas. No associated funerary objects were identified.

Determinations

The Ozark-St. Francis National Forest has determined that:

• The human remains described in this notice represent the physical remains of six individuals of Native American ancestry.

• The one object described in this notice is reasonably believed to have been placed intentionally with or near individual human remains at the time of death or later as part of the death rite or ceremony.

• The Osage Nation has priority for disposition of the human remains and associated funerary object described in this notice.

Claims for Disposition

Written claims for disposition of the human remains and associated funerary object in this notice must be sent to the appropriate official identified in this notice under ADDRESSES. If no claim for disposition is received by December 17, 2026, the human remains and associated funerary object in this notice will become unclaimed human remains and an unclaimed associated funerary object. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary object in this notice may occur on or after January 16, 2026. If competing claims for disposition are received, the Ozark-St. Francis National Forest must determine the most appropriate claimant prior to disposition. Requests for joint disposition of the human remains and associated funerary object are considered a single request and not competing requests. The Ozark-St. Francis National Forest is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: November 24, 2025.
Melanie O'Brien,
Manager, National NAGPRA Program.

[FR Doc. 2025-23024 Filed 12-16-25; 8:45 am]

BILLING CODE 4312-52-P